ENVIRONMENTAL PROTECTION AGENCY

40 CFR Part 52

[MN-86-1; FRL-7867-5]

Approval and Promulgation of Air Quality Implementation Plans; Minnesota; Revised Format of 40 CFR Part 52 for Materials Being Incorporated by Reference

AGENCY: Environmental Protection Agency (EPA).

ACTION: Final rule; Notice of administrative change.

SUMMARY: EPA is revising the format of 40 CFR part 52 for materials submitted by the state of Minnesota that are incorporated by reference (IBR) into its State Implementation Plan (SIP). The regulations affected by this format change have all been previously submitted by Minnesota and approved by EPA.

This format revision will primarily affect the “Identification of plan” section of 40 CFR part 52, as well as the format of the SIP materials that will be available for public inspection at the National Archives and Records Administration (NARA), the Air and Radiation Docket and Information Center located at EPA Headquarters in Washington, DC, and the EPA Region 5 Office. EPA is also adding a table in the “Identification of plan” section which summarizes the approval actions that EPA has taken on the non-regulatory and quasi-regulatory portions of the Minnesota SIP. The sections of 40 CFR part 52 pertaining to provisions promulgated by EPA or state-submitted materials not subject to IBR review remain unchanged.

DATES: Effective Date: This final rule is effective on February 24, 2005.

ADDRESSES: SIP materials which are incorporated by reference into 40 CFR part 52 are available for inspection at the following locations: Environmental Protection Agency, Region 5, Air Programs Branch, 77 West Jackson Boulevard, Chicago, Illinois 60604; the Air and Radiation Docket and Information Center, U.S. Environmental Protection Agency, 1301 Constitution Avenue NW., Room B108, Washington, DC 20460; or the National Archives and Records Administration (NARA). For information on the availability of this material at NARA, call (202) 741-6030, or go to: http://www.archives.gov/federal_register/code_of_federal_regulations/ibr_locations.html.

FOR FURTHER INFORMATION CONTACT: Christos Panos, Environmental Engineer, (312) 353-8328, at the above Region 5 address or by e-mail at panos.christos@epa.gov.

SUPPLEMENTARY INFORMATION: The supplementary information is organized in the following order:

I. Background

Description of a SIP

How EPA Enforces SIPs

How the State and EPA Update the SIP

How EPA Compiles the SIP

How EPA Organizes the SIP Compilation

Where You Can Find a Copy of the SIP Compilation

The Format of the New Identification of Plan Section

When a SIP Revision Becomes Federally Enforceable

The Historical Record of SIP Revision Approvals

II. What EPA Is Doing in This Action

III. Statutory and Executive Order Reviews

I. Background

Description of a SIP—Each state has a SIP containing the control measures and strategies used to attain and maintain the National Ambient Air Quality Standards (NAAQS). The SIP is extensive, containing elements covering a variety of subjects, such as air pollution control regulations, emission inventories, monitoring networks, attainment demonstrations, and enforcement mechanisms.

How EPA Enforces SIPs—Each state must formally adopt the control measures and strategies in the SIP after the public has had an opportunity to comment on them. They are then submitted to EPA as SIP revisions on which EPA must formally act.

Once these control measures and strategies are approved by EPA, after notice and comment rulemaking, they are incorporated into the federally approved SIP and are identified in Title 40 of the Code of Federal Regulations part 52 (Approval and Promulgation of Implementation Plans), (40 CFR part 52). The actual state regulations approved by EPA are not reproduced in their entirety in 40 CFR part 52, but are “incorporated by reference,” which means that EPA has approved a given state regulation with a specific effective date. This format allows both EPA and the public to know which measures are contained in a given SIP and ensures that the state is enforcing the regulations. It also allows EPA and the public to take enforcement action, should a state not enforce its SIP-approved regulations.

How the State and EPA Update the SIP—The SIP is a living document which can be revised as necessary to address the unique air pollution problems in the state. Therefore, EPA must, from time to time, take action on SIP revisions containing new and/or revised regulations as being part of the SIP. On May 22, 1997 (62 FR 27968), EPA revised the procedures for incorporating by reference federally approved SIPs, as a result of consultations between EPA and the Office of the Federal Register (OFR).

EPA began the process of developing: (1) A revised SIP document for each state that would be incorporated by reference under the provisions of title 1 CFR part 51; (2) a revised mechanism for announcing EPA approval of revisions to an applicable SIP and updating both the IBR document and the CFR; and (3) a revised format of the “Identification of plan” sections for each applicable subpart to reflect these revised IBR procedures. The description of the revised SIP document, IBR procedures, and “Identification of plan” format are discussed in further detail in the May 22, 1997, Federal Register document.

How EPA Compiles the SIP—The federally approved regulations, source-specific requirements, and nonregulatory provisions (entirely or portions of) submitted by each state agency have been organized by EPA into a “SIP compilation.” The SIP compilation contains the updated regulations, source-specific requirements, and nonregulatory provisions approved by EPA through previous rulemaking actions in the Federal Register. The compilation is contained in three-ring binders and will be updated, primarily on an annual basis. The nonregulatory provisions are available by contacting Christos Panos at the Regional Office.

How EPA Organizes the SIP Compilation—Each compilation contains three parts. Part one contains the regulations, part two contains the source-specific requirements that have been approved as part of the SIP, and part three contains nonregulatory provisions that have been approved by EPA. Each part consists of a table of identifying information for each SIP-approved regulation, each SIP-approved source-specific requirement, and each nonregulatory SIP provision. In this action, EPA is publishing the tables summarizing the applicable SIP requirements for Minnesota. The effective dates in the tables indicate the date of the most recent revision of each regulation. The EPA Regional Offices have the primary responsibility for updating the compilation and ensuring its accuracy.

Where You Can Find a Copy of the SIP Compilation—EPA's Region 5 Office developed and will maintain the compilation for Minnesota. A copy of the full text of Minnesota's regulatory and source-specific compilation will also be maintained at NARA and EPA's Air Docket and Information Center.

The Format of the New Identification of Plan Section—In order to better serve the public, EPA revised the organization of the “Identification of plan” section and included additional information to clarify the enforceable elements of the SIP.

The revised Identification of plan section contains five subsections: (a) Purpose and scope, (b) Incorporation by reference, (c) EPA approved regulations, (d) EPA approved source specific permits, and (e) EPA approved nonregulatory and quasi-regulatory provisions such as transportation control measures, statutory provisions, control strategies, monitoring networks, etc.

When a SIP Revision Becomes Federally Enforceable—All revisions to the applicable SIP become federally enforceable as of the effective date of the revisions to paragraphs (c), (d), or (e) of the applicable Identification of plan section found in each subpart of 40 CFR part 52.

The Historical Record of SIP Revision Approvals—To facilitate enforcement of previously approved SIP provisions and provide a smooth transition to the new SIP processing system, EPA retains the original Identification of plan section, previously appearing in the CFR as the first or second section of part 52 for each state subpart. After an initial two-year period, EPA will review its experience with the new system and enforceability of previously approved SIP measures and will decide whether or not to retain the Identification of plan appendices for some further period.

II. What EPA Is Doing in This Action

Today's rule constitutes a “housekeeping” exercise to ensure that all revisions to the state programs that have occurred are accurately reflected in 40 CFR oprt 52. State SIP revisions are controlled by EPA regulations at 40 CFR part 51. When EPA receives a formal SIP revision request, the Agency must publish the proposed revision in the Federal Register and provide for public comment before approval.

EPA has determined that today's rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Today's rule simply codifies provisions which are already in effect as a matter of law in Federal and approved state programs.

Under section 553 of the APA, an agency may find good cause where procedures are “impractical, unnecessary, or contrary to the public interest.” Public comment is “unnecessary” and “contrary to the public interest” since the codification only reflects existing law. Immediate notice in the CFR benefits the public by removing outdated citations.

III. Statutory and Executive Order Reviews

A. General Requirements

Under Executive Order 12866 (58 FR 51735, October 4, 1993), this action is not a “significant regulatory action” and is therefore not subject to review by the Office of Management and Budget. This rule is not subject to Executive Order 13211, “Actions Concerning Regulations That Significantly Affect Energy Supply, Distribution, or Use” (66 FR 28355, May 22, 2001) because it is not a significant regulatory action under Executive Order 12866. Because the agency has made a “good cause” finding that this action is not subject to notice-and-comment requirements under the Administrative Procedure Act or any other statute as indicated in the Supplementary Information section above, it is not subject to the regulatory flexibility provisions of the Regulatory Flexibility Act (5 U.S.C. 601 et seq.), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian tribes, on the relationship between the Federal government and Indian tribes, or on the distribution of power and responsibilities between the Federal government and Indian tribes, as specified by Executive Order 13175 (65 FR 67249, November 9, 2000), nor will it have substantial direct effects on the States, on the relationship between the national government and the States, or on the distribution of power and responsibilities among the various levels of government, as specified in Executive Order 13132 (64 FR 43255, August 10, 1999). This rule also is not subject to Executive Order 13045 (62 FR 19885, April 23, 1997), because it is not economically significant. This rule does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq.). EPA's compliance with these statutes and Executive Orders for the underlying rules are discussed in previous actions taken on the State's rules.

B. Submission to Congress and the Comptroller General

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. Today's action simply codifies provisions which are already in effect as a matter of law in Federal and approved State programs. 5 U.S.C. 808(2). As stated previously, EPA has made such a good cause finding, including the reasons therefore, and established an effective date of February 24, 2005. EPA will submit a report containing this rule and other required information to the U.S. Senate, the U.S. House of Representatives, and the Comptroller General of the United States prior to publication of the rule in the Federal Register. This rule is not a “major rule” as defined by 5 U.S.C. 804(2).

C. Petitions for Judicial Review

EPA has also determined that the provisions of section 307(b)(1) of the Clean Air Act pertaining to petitions for judicial review are not applicable to this action. Prior EPA rulemaking actions for each individual component of the Minnesota SIP compilation had previously afforded interested parties the opportunity to file a petition for judicial review in the United States Court of Appeals for the appropriate circuit within 60 days of such rulemaking action. Thus, EPA sees no need in this action to reopen the 60-day period for filing such petitions for judicial review for these “Identification of plan” reorganization actions for Minnesota.

List of Subjects in 40 CFR Part 52

Environmental protection, Air pollution control, Carbon monoxide, Hydrocarbons, Incorporation by reference, Intergovernmental relations, Lead, Nitrogen dioxide, Ozone, Particulate matter, Reporting and recordkeeping requirements, Sulfur oxides, Volatile organic compounds.

Dated: January 13, 2005.
Norman Niedergang,
Acting Regional Administrator, Region 5.

Part 52 of chapter I, title 40, Code of Federal Regulations, is amended as follows:

PART 52—[AMENDED]

1. The authority for citation for part 52 continues to read as follows:

Authority: 42 U.S.C. 7401 et seq.

Subpart Y—Minnesota

§ 52.1220 [Redesignated as § 52.1222]

2. Section 52.1220 is redesignated as § 52.1222 and the section heading and paragraph (a) are revised to read as follows:

§ 52.1222 Original Identification of plan section.

(a) This section identifies the original “Air Implementation Plan for the State of Minnesota” and all revisions submitted by Minnesota that were federally approved prior to December 1, 2004.

* * * * *

3. A new § 52.1220 is added to read as follows:

§ 52.1220 Identification of plan.

(a) Purpose and scope. This section sets forth the applicable State Implementation Plan (SIP) for Minnesota under section 110 of the Clean Air Act, 42 U.S.C. 7401, and 40 CFR part 51 to meet National Ambient Air Quality Standards.

(b) Incorporation by reference.

(1) Material listed in paragraphs (c) and (d) of this section with an EPA approval date prior to December 1, 2004, was approved for incorporation by reference by the Director of the Federal Register in accordance with 5 U.S.C. 552(a) and 1 CFR part 51. Material is incorporated as it exists on the date of the approval, and notice of any change in the material will be published in the Federal Register. Entries in paragraphs (c) and (d) of this section with the EPA approval dates after December 1, 2004, will be incorporated by reference in the next update to the SIP compilation.

(2) EPA Region 5 certifies that the rules/regulations provided by the EPA in the SIP compilation at the addresses in paragraph (b)(3) of this section are an exact duplicate of the officially promulgated state rules/regulations which have been approved as part of the SIP as of December 1, 2004.

(3) Copies of the materials incorporated by reference may be inspected at the Environmental Protection Agency, Region 5, Air Programs Branch, 77 West Jackson Boulevard, Chicago, IL 60604; the EPA, Air and Radiation Docket and Information Center, 1301 Constitution Avenue NW., Room B108, Washington, DC 20460; or the National Archives and Records Administration (NARA). For information on the availability of this material at NARA, call (202) 741-6030, or go to: http://www.archives.gov/federal_register/code_of_federal_regulations/ibr_locations.html.

(c) EPA approved regulations.

EPA—Approved Minnesota Regulations
Minnesota citation | Title / subject | State effective date | EPA approval date | Comments
CHAPTER 7001 PERMITS AND CERTIFICATIONS
7001.0020 | Scope | 08/10/93 | 05/02/95, 60 FR 21447 | Only items I and J.
7001.0050 | Written application | 08/10/93 | 05/02/95, 60 FR 21447 | Only item I.
7001.0140 | Final determination | 08/10/93 | 05/02/95, 60 FR 21447 | Only Subp. 2F.
7001.0180 | Justification to commence revocation without reissuance of permit | 08/10/93 | 05/02/95, 60 FR 21447 | Only item D.
7001.0550 | Contents of part a of application | 08/10/93 | 05/02/95, 60 FR 21447 | Only items E and J(3).
7001.3050 | Permit requirements | 08/10/93 | 05/02/95, 60 FR 21447 | Only Subp. 3E.
CHAPTER 7002 PERMIT FEES
7002.0005 | Scope | 08/10/93 | 05/02/95, 60 FR 21447 |
7002.0015 | Definitions | 08/10/93 | 05/02/95, 60 FR 21447 | Only Subp. 1 and 2.
CHAPTER 7005 DEFINITIONS AND ABBREVIATIONS
7005.0100 | Definitions | 10/18/93 | 05/24/95, 60 FR 27411 | All except 25(a), NESHAP definition.
7005.0110 | Abbreviations | 10/18/93 | 05/24/95, 60 FR 27411 |
CHAPTER 7007 AIR EMISSION PERMITS
7007.0050 | Scope | 08/10/93 | 05/02/95, 60 FR 21447 |
7007.0100 | Definitions | 08/10/93 | 05/02/95, 60 FR 21447 |
|  | 12/27/94 | 05/18/99, 64 FR 26880 | Revised Subp. 9a, 12a, 12b, 17, 18a, and 28.
7007.0150 | Permit required | 08/10/93 | 05/02/95, 60 FR 21447 |
|  | 12/27/94 | 05/18/99, 64 FR 26880 | Revised Subp. 2 and 4.
7007.0200 | Sources required or allowed to obtain a part 70 permit | 08/10/93 | 05/02/95, 60 FR 21447 |
|  | 12/27/94 | 05/18/99, 64 FR 26880 | Revised Subp. 1.
7007.0250 | Sources required to obtain a state permit | 08/10/93 | 05/02/95, 60 FR 21447 |
|  | 12/27/94 | 05/18/99, 64 FR 26880 | Revised Subp. 1 and 7.
7007.0300 | Sources not required to obtain a permit | 08/10/93 | 05/02/95, 60 FR 21447
|  | 12/27/94 | 05/18/99, 64 FR 26880 | Revised Subp. 1.
7007.0350 | Existing source application deadlines and source operation during transition | 08/10/93 | 05/02/95, 60 FR 21447 |
|  | 12/27/94 | 05/18/99, 64 FR 26880 | Revised Subp. 1A.
7007.0400 | Permit reissuance applications after transition; new source and permit amendment applications; applications for sources newly subject to a Part 70 or State permit requirement | 08/10/93 12/27/94 | 05/02/95, 60 FR 21447 05/18/99, 64 FR 26880 | Revised Subp. 1 and 4.
7007.0450 | Permit reissuance applications and continuation of expiring permits | 08/10/93 12/27/94 | 05/02/95, 60 FR 21447 05/18/99, 64 FR 26880 | Revised Subp. 2C.
7007.0500 | Content of permit application | 08/10/93 | 05/02/95, 60 FR 21447 |
7007.0550 | Confidential information | 08/10/93 | 05/02/95, 60 FR 21447 |
7007.0600 | Complete application and supplemental information requirements | 08/10/93 | 05/02/95, 60 FR 21447 |
7007.0650 | Who receives an application | 08/10/93 | 05/02/95, 60 FR 21447 |
7007.0700 | Completeness review | 08/10/93 | 05/02/95, 60 FR 21447 |
7007.0750 | Application priority and issuance timelines | 08/10/93 | 05/02/95, 60 FR 21447 |
|  | 12/27/94 | 05/18/99, 64 FR 5 26880 | Revised Subp. 5.
7007.0800 | Permit content | 08/10/93 | 05/02/95, 60 FR 21447 |
|  | 02/28/95 | 10/14/97, 62 FR 53239 | Revised Subp. 6.C(5).
7007.0850 | Permit application notice and comment | 08/10/93 | 05/02/95, 60 FR 21447 |
7007.0900 | Review of part 70 permits by affected states | 08/10/93 | 05/02/95, 60 FR 21447 |
7007.0950 | EPA review and objection | 08/10/93 | 05/02/95, 60 FR 21447 |
7007.1000 | Permit issuance and denial | 08/10/93 | 05/02/95, 60 FR 21447 |
7007.1050 | Duration of permits | 08/10/93 | 05/02/95, 60 FR 21447 |
|  | 12/27/94 | 05/18/99, 64 FR 26880 | Revised Subp. 3a.
7007.1100 | General permits | 08/10/93 | 05/02/95, 60 FR 21447 |
7007.1110 | Registration permit general requirements | 12/27/94 | 05/18/99, 64 FR 26880 |
7007.1115 | Registration permit option a | 12/27/94 | 05/18/99, 64 FR 26880 |
7007.1120 | Registration permit option b | 12/27/94 | 05/18/99, 64 FR 26880 |
7007.1130 | Registration permit option d | 12/27/94 | 05/18/99, 64 FR 26880 |
7007.1150 | When a permit amendment is required | 08/10/93 | 05/02/95, 60 FR 21447
|  | 12/27/94 | 05/18/99, 64 FR 26880 | Revised Subp. (C).
7007.1200 | Calculating emission changes for permit amendments | 12/27/94 | 05/18/99, 64 FR 26880
7007.1250 | Insignificant modifications | 08/10/93 | 05/02/95, 60 FR 21447
|  | 12/27/94 | 05/18/99, 64 FR 26880 | Revised Subp. 1.
7007.1251 | Hazardous air pollutant thresholds | 12/27/94 | 05/18/99, 64 FR 26880
7007.1300 | Insignificant activities list | 08/10/93 | 05/02/95, 60 FR 21447
|  | 12/27/94 | 05/18/99, 64 FR 26880 | Revised Subp. 2, 3, and 4.
7007.1350 | Changes which contravene certain permit terms | 08/10/93 | 05/02/95, 60 FR 21447
7007.1400 | Administrative permit amendments | 08/10/93 | 05/02/95, 60 FR 21447
7007.1450 | Minor and moderate permit amendments | 08/10/93 | 05/02/95, 60 FR 21447
|  | 12/27/94 | 05/18/99, 64 FR 26880 | Revised Subp. 2.
7007.1500 | Major permit amendments | 08/10/93 | 05/02/95, 60 FR 21447
7007.1600 | Permit reopening and amendment by agency | 08/10/93 | 05/02/95, 60 FR 21447
7007.1650 | Reopenings for cause by EPA | 08/10/93 | 05/02/95, 60 FR 21447
7007.1700 | Permit revocation by agency | 08/10/93 | 05/02/95, 60 FR 21447
7007.1750 | Federal enforceability | 08/10/93 | 05/02/95, 60 FR 21447
7007.1800 | Permit shield | 08/10/93 | 05/02/95, 60 FR 21447
7007.1850 | Emergency provision | 08/10/93 | 05/02/95, 60 FR 21447
Offsets
7007.4000 | Scope | 10/18/93 | 05/24/95, 60 FR 27411
7007.4010 | Definitions | 10/18/93 | 05/24/95, 60 FR 27411
7007.4020 | Conditions for permit | 10/18/93 | 05/24/95, 60 FR 27411
7007.4030 | Limitation on use of offsets | 10/18/93 | 05/24/95, 60 FR 27411
CHAPTER 7009 AMBIENT AIR QUALITY STANDARDS
7009.0010 | Definitions | 10/18/93 | 05/24/95, 60 FR 27411
7009.0020 | Prohibited emissions | 10/18/93 | 05/24/95, 60 FR 27411
7009.0050 | Measurement methodology, except for hydrogen sulfide | 10/18/93 | 05/24/95, 60 FR 27411
7009.0060 | Measurement methodology for hydrogen sulfide | 10/18/93 | 05/24/95, 60 FR 27411
7009.0070 | Time of compliance | 10/18/93 | 05/24/95, 60 FR 27411
7009.0080 | State ambient air quality standards | 10/18/93 | 05/24/95, 60 FR 27411
7009.1000 | Air pollution episodes | 10/18/93 | 05/24/95, 60 FR 27411
7009.1010 | Definitions | 10/18/93 | 05/24/95, 60 FR 27411
7009.1020 | Episode levels | 10/18/93 | 05/24/95, 60 FR 27411
7009.1030 | Episode declaration | 10/18/93 | 05/24/95, 60 FR 27411
7009.1040 | Control actions | 10/18/93 | 05/24/95, 60 FR 27411
7009.1050 | Emergency powers | 10/18/93 | 05/24/95, 60 FR 27411
7009.1060 | Table 1 | 10/18/93 | 05/24/95, 60 FR 27411
7009.1070 | Table 2: emission reduction objectives for particulate matter | 10/18/93 | 05/24/95, 60 FR 27411
7009.1080 | Table 3: emission objectives for sulfur oxides | 10/18/93 | 05/24/95, 60 FR 27411
7009.1090 | Table 4: emission reduction objectives for nitrogen oxides | 10/18/93 | 05/24/95, 60 FR 27411
7009.1100 | Table 5: emission reduction objectives for hydrocarbons | 10/18/93 | 05/24/95, 60 FR 27411
7009.1110 | Table 6: emission reduction objectives for carbon monoxide | 10/18/93 | 05/24/95, 60 FR 27411
General Conformity Rule
7009.9000 | Determining conformity of general federal actions to state or federal implementation plans | 11/20/95 | 04/23/97, 62 FR 19674
CHAPTER 7011 STANDARDS FOR STATIONARY SOURCES
7011.0010 | Applicability of standards of performance | 10/18/93 | 05/24/95, 60 FR 27411
|  | 07/13/98 | 05/13/02, 67 FR 31963 | Revised Subp. 4 and 5
7011.0020 | Circumvention | 10/18/93 | 05/24/95, 60 FR 27411
7011.0060 | Definitions | 12/27/94 | 05/18/99, 64 FR 26880
7011.0061 | Incorporation by reference | 12/27/94 | 05/18/99, 64 FR 26880
7011.0065 | Applicability | 12/27/94 | 05/18/99, 64 FR 26880
7011.0070 | Listed control equipment and control equipment efficiencies | 12/27/94 | 05/18/99, 64 FR 26880
7011.0075 | Listed control equipment general requirements | 12/27/94 | 05/18/99, 64 FR 26880
7011.0080 | Monitoring and record keeping for listed control equipment | 12/27/94 | 05/18/99, 64 FR 26880
Opacity
7011.0100 | Scope | 10/18/93 | 05/24/95, 60 FR 27411
7011.0105 | Visible emission restrictions for existing facilities | 07/13/98 | 05/13/02, 67 FR 31963
7011.0110 | Visible emission restrictions for new facilities | 10/18/93 | 05/24/95, 60 FR 27411
7011.0115 | Performance tests | 10/18/93 | 05/24/95, 60 FR 27411
7011.0150 | Preventing particulate matter from becoming airborne | 10/18/93 | 05/24/95, 60 FR 27411
Indirect Heating Equipment
7011.0500 | Definitions | 10/18/93 | 05/24/95, 60 FR 27411
7011.0505 | Determination of applicable standards of performance | 10/18/93 | 05/24/95, 60 FR 27411
7011.0510 | Standards of performance for existing indirect heating equipment | 10/18/93 | 05/24/95, 60 FR 27411
|  | 07/13/98 | 05/13/02, 67 FR 31963 | Revised Subp. 2.
7011.0515 | Standards of performance for new indirect heating equipment | 10/18/93 | 05/24/95, 60 FR 27411
|  | 07/13/98 | 05/13/02, 67 FR 31963 | Revised Subp. 2.
7011.0520 | Allowance for stack height for indirect heating equipment | 10/18/93 | 05/24/95, 60 FR 27411
7011.0525 | High heating value | 10/18/93 | 05/24/95, 60 FR 27411
7011.0530 | Performance test methods | 10/18/93 | 05/24/95, 60 FR 27411
7011.0535 | Performance test procedures | 10/18/93 | 05/24/95, 60 FR 27411
7011.0540 | Derate | 10/18/93 | 05/24/95, 60 FR 27411
7011.0545 | Table I: Existing indirect heating equipment | 10/18/93 | 05/24/95, 60 FR 27411
7011.0550 | Table II: New indirect heating equipment | 10/18/93 | 05/24/95, 60 FR 27411
Direct Heating Equipment
7011.0600 | Definitions | 10/18/93 | 05/24/95, 60 FR 27411
7011.0605 | Determination of applicable standards of performance | 10/18/93 | 05/24/95, 60 FR 27411
7011.0610 | Standards of performance for fossil-fuel-burning direct heating equipment | 10/18/93 | 05/24/95, 60 FR 27411
|  | 07/13/98 | 05/13/02, 67 FR 31963 | Revised Subp. 1(A).
7011.0615 | Performance test methods | 10/18/93 | 05/24/95, 60 FR 27411
7011.0620 | Performance test procedures | 10/18/93 | 05/24/95, 60 FR 27411
7011.0625 | Record keeping and reporting for direct heating units combusting solid waste | 04/03/98 | 08/12/98, 63 FR 43080
Industrial Process Equipment
7011.0700 | Definitions | 10/18/93 | 05/24/95, 60 FR 27411
7011.0705 | Scope | 10/18/93 | 05/24/95, 60 FR 27411
7011.0710 | Standards of performance for pre-1969 industrial process equipment | 10/18/93 | 05/24/95, 60 FR 27411
|  | 07/13/98 | 05/13/02, 67 FR 31963 | Revised Subp. 1(B).
7011.0715 | Standards of performance for post-1969 industrial process ′equipment | 10/18/93 | 05/24/95, 60 FR 27411
7011.0720 | Performance test methods | 10/18/93 | 05/24/95, 60 FR 27411
7011.0725 | Performance test procedures | 10/18/93 | 05/24/95, 60 FR 27411
7011.0730 | Table 1 | 10/18/93 | 05/24/95, 60 FR 27411
7011.0735 | Table 2 | 10/18/93 | 05/24/95, 60 FR 27411
Portland Cement Plants
| 7011.0800 | Definitions | 10/18/93 | 05/24/95, 60 FR 27411
7011.0805 | Standards of performance for existing portland cement plants | 07/13/98 | 05/13/02, 67 FR 31963
7011.0815 | Monitoring of operations | 10/18/93 | 05/24/95, 60 FR 27411
7011.0820 | Performance test methods | 10/18/93 | 05/24/95, 60 FR 27411
7011.0825 | Performance test procedures | 10/18/93 | 05/24/95, 60 FR 27411
Asphalt Concrete Plants
7011.0900 | Definitions | 10/18/93 | 05/24/95, 60 FR 27411
7011.0903 | Compliance with ambient air quality standards | 10/18/93 | 05/24/95, 60 FR 27411
7011.0905 | Standards of performance for existing asphalt concrete plants | 10/18/93 | 05/24/95, 60 FR 27411
7011.0909 | Standards of performance for new hot mix asphalt plants | 10/18/93 | 05/24/95, 60 FR 27411
7011.0915 | Test methods. | 10/18/93 | 05/24/95, 60 FR 27411
7011.0920 | Performance test procedures | 10/18/93 | 05/24/95, 60 FR 27411
Grain Elevators
7011.1000 | Definitions | 10/18/93 | 05/24/95, 60 FR 27411
7011.1005 | Standards of performance for dry for bulk agricultural commodity facilities | 10/18/93 | 05/24/95, 60 FR 27411 | Entire rule except Subp. 2.
7011.1010 | Nuisance | 10/18/93 | 05/24/95, 60 FR 27411
7011.1015 | Control requirements schedule | 10/18/93 | 05/24/95, 60 FR 27411
Coal Handling Facilities
7011.1100 | Definitions | 10/18/93 | 05/24/95, 60 FR 27411
7011.1105 | Standards of performance for certain coal handling facilities | 10/18/93 | 05/24/95, 60 FR 27411
7011.1110 | Standards of performance for existing outstate coal handling facilities | 10/18/93 | 05/24/95, 60 FR 27411
7011.1115 | Standards of performance for pneumatic coal-cleaning equipment and thermal dryers at any coal handling facility | 10/18/93 | 05/24/95, 60 FR 27411
7011.1120 | Exemption | 10/18/93 | 05/24/95, 60 FR 27411
7011.1125 | Cessation of operations | 10/18/93 | 05/24/95, 60 FR 27411
7011.1135 | Performance test procedures | 10/18/93 | 05/24/95, 60 FR 27411
7011.1140 | Dust suppressant agents | 10/18/93 | 05/24/95, 60 FR 27411
Incinerators
| 7011.1201 | Definitions | 10/18/93 | 05/24/95, 60 FR 27411
7011.1202 | Standards of performance for existing incinerators | 10/18/93 | 05/24/95, 60 FR 27411
7011.1203 | Standards of performance for new incinerators. | 10/18/93 | 05/24/95, 60 FR 27411
7011.1204 | Monitoring of operations | 10/18/93 | 05/24/95, 60 FR 27411
7011.1205 | Incorporations by reference | 10/18/93 | 05/24/95, 60 FR 27411
7011.1206 | Performance test methods | 10/18/93 | 05/24/95, 60 FR 27411
7011.1207 | Performance test procedures | 10/18/93 | 05/24/95, 60 FR 27411
Sewage Sludge Incinerators
7011.1300 | Definitions | 10/18/93 | 05/24/95, 60 FR 27411
7011.1305 | Standards of performance for existing sewage sludge incinerators | 10/18/93 | 05/24/95, 60 FR 27411
|  | 07/13/98 | 05/13/02, 67 FR 31963 | Revised Subp. (C)
7011.1310 | Standards of performance for new sewage sludge incinerators | 10/18/93 | 05/24/95, 60 FR 27411
7011.1315 | Monitoring of operations | 10/18/93 | 05/24/95, 60 FR 27411
7011.1320 | Performance test methods | 10/18/93 | 05/24/95, 60 FR 27411
7011.1325 | Performance test procedures | 10/18/93 | 05/24/95, 60 FR 27411
Petroleum Refineries
| 7011.1400 | Definitions | 10/18/93 | 05/24/95, 60 FR 27411
7011.1405 | Standards of performance for existing affected facilities at petroleum refineries | 10/18/93 | 05/24/95, 60 FR 27411
|  | 07/13/98 | 05/13/02, 67 FR 31963 | Revised Subp. 1 and 3.
7011.1410 | Standards of performance for new affected facilities at petroleum refineries | 10/18/93 | 05/24/95, 60 FR 27411
|  | 07/13/98 | 05/13/02, 67 FR 31963 | Revised Subp. 1, 3(B), 3(C)(2)
7011.1415 | Exemptions | 10/18/93 | 05/24/95, 60 FR 27411
7011.1420 | Emission monitoring | 10/18/93 | 05/24/95, 60 FR 27411
7011.1425 | Performance test methods | 10/18/93 | 05/24/95, 60 FR 27411
7011.1430 | Performance test procedures | 10/18/93 | 05/24/95, 60 FR 27411
Liquid Petroleum and VOC Storage Vessels
7011.1500 | Definitions | 10/18/93 | 05/24/95, 60 FR 27411
7011.1505 | Standards of performance for storage vessels | 10/18/93 | 05/24/95, 60 FR 27411
7011.1510 | Monitoring of operations | 10/18/93 | 05/24/95, 60 FR 27411
7011.1515 | Exception | 10/18/93 | 05/24/95, 60 FR 27411
Sulfuric Acid Plants
7011.1600 | Definitions | 10/18/93 | 05/24/95, 60 FR 27411
7011.1605 | Standards of performance of existing sulfuric acid production units | 10/18/93 | 05/24/95, 60 FR 27411
7011.1615 | Continuous emission monitoring | 10/18/93 | 05/24/95, 60 FR 27411
7011.1620 | Performance test methods | 10/18/93 | 05/24/95, 60 FR 27411
7011.1625 | Performance test procedures | 10/18/93 | 05/24/95, 60 FR 27411
7011.1630 | Exceptions | 10/18/93 | 05/24/95, 60 FR 27411
Nitric Acid Plants
7011.1700 | Definitions | 10/18/93 | 05/24/95, 60 FR 27411
7011.1705 | Standards of performance for existing nitric acid production units | 10/18/93 | 05/24/95, 60 FR 27411
7011.1715 | Emission monitoring | 10/18/93 | 05/24/95, 60 FR 27411
7011.1720 | Performance test methods | 10/18/93 | 05/24/95, 60 FR 27411
7011.1725 | Performance test procedures | 10/18/93 | 05/24/95, 60 FR 27411
Inorganic Fibrous Materials
7011.2100 | Definitions | 10/18/93 | 05/24/95, 60 FR 27411
7011.2105 | Spraying of inorganic fibrous materials | 10/18/93 | 05/24/95, 60 FR 27411
Stationary Internal Combustion Engines
7011.2300 | Standards of performance for stationary internal combustion engines | 10/18/93 | 05/24/95, 60 FR 27411
CHAPTER 7017 MONITORING AND TESTING REQUIREMENTS
7017.0100 | Establishing violations | 02/28/95 | I0/14/97, 62 FR 53239
CEMS
7017.1000 | Continuous monitoring | 10/18/93 | 05/24/95, 60 FR 27411
Performance Tests
7017.2001 | Applicability | 07/13/98 | 05/13/02, 67 FR 31963
7017.2005 | Definitions | 07/13/98 | 05/13/02, 67 FR 31963
7017.2010 | Incorporation of test methods by reference | 07/13/98 | 05/13/02, 67 FR 31963
7017.2015 | Incorporation of federal testing requirements by reference | 07/13/98 | 05/13/02, 67 FR 31963
7017.2018 | Submittals | 07/13/98 | 05/13/02, 67 FR 31963
7017.2020 | Performance tests general requirements | 07/13/98 | 05/13/02, 67 FR 31963
7017.2025 | Operational requirements and limitations | 07/13/98 | 05/13/02, 67 FR 31963
7017.2030 | Performance test pretest requirements | 07/13/98 | 05/13/02, 67 FR 31963
7017.2035 | Performance test reporting requirements | 07/13/98 | 05/13/02, 67 FR 31963
7017.2040 | Certification of performance test results | 07/13/98 | 05/13/02, 67 FR 31963
7017.2045 | Quality assurance requirements | 07/13/98 | 05/13/02, 67 FR 31963
7017.2050 | Performance test methods | 07/13/98 | 05/13/02, 67 FR 31963
7017.2060 | Performance test procedures | 07/13/98 | 05/13/02, 67 FR 31963
CHAPTER 7019 EMISSION INVENTORY REQUIREMENTS
7019.1000 | Shutdowns and breakdowns | 10/18/93 | 05/24/95, 60 FR 27411
7019.2000 | Reports | 10/18/93 | 05/24/95, 60 FR 27411
7019.3000 | Emission inventory | 10/18/93 | 05/24/95, 60 FR 27411
7019.3010 | Calculation of actual emissions for emission inventory | 10/18/93 | 05/24/95, 60 FR 27411
CHAPTER 7023 MOBILE AND INDIRECT SOURCES
7023.0100 | Definitions. | 10/18/93 | 05/24/95, 60 FR 27411
7023.0105 | Standards of performance for motor vehicles | 10/18/93 | 05/24/95, 60 FR 27411
7023.0110 | Standards of performance for trains, boats, and construction equipment | 10/18/93 | 05/24/95, 60 FR 27411
7023.0115 | Exemption | 10/18/93 | 05/24/95, 60 FR 27411
7023.0120 | Air pollution control systems restrictions | 10/18/93 | 05/24/95, 60 FR 27411
7023.1010 | Definitions | 01/08/94 | 10/29/99, 64 FR 58344 | Entire rule except for Subp. 35(B)
7023.1015 | Inspection Requirement | 01/08/94 | 10/29/99, 64 FR 58344
7023.1020 | Description of Inspection and Documents Required | 01/08/94 | 10/29/99, 64 FR 58344
7023.1025 | Tampering Inspection | 01/08/94 | 10/29/99, 64 FR 58344
7023.1030 | Exhaust Emission Test | 01/08/94 | 10/29/99, 64 FR 58344 | Entire rule except for Subp. 11(B, C)
7023.1035 | Reinspections | 01/08/94 | 10/29/99, 64 FR 58344
7023.1040 | Vehicle Inspection Report | 01/08/94 | 10/29/99, 64 FR 58344
7023.1045 | Certificate of Compliance | 01/08/94 | 10/29/99, 64 FR 58344
7023.1050 | Vehicle Noncompliance and Repair | 01/08/94 | 10/29/99, 64 FR 58344
7023.1055 | Certificate of Waiver | 01/08/94 | 10/29/99, 64 FR 58344 | Entire rule except for Subp. 1 (E)(2).
7023.1060 | Emission Control Equipment Inspection as a Condition of Waiver | 01/08/94 | 10/29/99, 64 FR 58344
7023.1065 | Repair Cost Limit and Low Emission Adjustment | 01/08/94 | 10/29/99, 64 FR 58344
7023.1070 | Certificate of Temporary Extension, Certificate of Annual Exemption, and Certificate of Exemption | 01/08/94 | 10/29/99, 64 FR 58344
7023.1075 | Evidence of Meeting State Inspection Requirements | 01/08/94 | 10/29/99, 64 FR 58344
7023.1080 | Fleet Inspection Station Permits, Procedures, and Inspection | 01/08/94 | 10/29/99, 64 FR 58344
7023.1085 | Inspection Stations Testing Fleet Vehicles | 01/08/94 | 10/29/99, 64 FR 58344
7023.1090 | Exhaust Gas Analyzer Specifications; Calibration and Qality Control | 01/08/94 | 10/29/99, 64 FR 58344
7023.1095 | [repealed, 18 sr 1593] | 01/08/94 | 10/29/99, 64 FR 58344
7023.1100 | Public Notification | 01/08/94 | 10/29/99, 64 FR 58344
7023.1105 | Inspection Fees | 01/08/94 | 10/29/99, 64 FR 58344 |
Minnesota Statutes
17.135 | Farm Disposal of Solid Waste | 1993 | 05/24/95, 60 FR 27411 | Only item (a).
88.01 | Definitions | 1993 | 05/24/95, 60 FR 27411 | Only Subd. 1, 2, 3, 4, 6, 14, 20, 23, 24, 25, and 26.
88.02 | Citation, Wildfire Act | 1993 | 05/24/95, 60 FR 27411
88.03 | Codification | 1993 | 05/24/95, 60 FR 27411
88.16 | Starting Fires; Burners; Failure to Report a Fire | 1993 | 05/24/95, 60 FR 27411 | Only Subd. 1 and 2
88.17 | Permission to Start Fires; Prosecution for Unlawfully Starting Fires | 1993 | 05/24/95, 60 FR 27411
88.171 | Open Burning Prohibitions | 1993 | 05/24/95, 60 FR 27411 | Only Subd. 1, 2, 5, 6, 7, 8, 9, and 10
Twin Cities Nonattainment Area for Carbon Monoxide
116.60 |  | 1999 | 10/29/99, 64 FR 58344 | Only Subd. 12.
116.61 |  | 1999 | 10/29/99, 64 FR 58344 | Only Subd. 1 and 3.
116.62 |  | 1999 | 10/29/99, 64 FR 58344 | Only Subd. 2, 3, 5, and 10.
116.63 |  | 1999 | 10/29/99, 64 FR 58344 | Only Subd. 4.

(d) EPA approved state source-specific requirements.

EPA—Approved Minnesota Source-Specific Permits
Name of source | Permit No. | State effective date | EPA approval date | Comments
Associated Milk Producers, Inc | 10900010-001 | 05/05/97 | 03/09/01, 66 FR 14087 | Title I conditions only.
Commercial Asphalt CO, Plant 905 | 12300347-002 | 09/10/99 | 07/12/00, 65 FR 42861 | Title I conditions only.
Continental Nitrogen and Resources Corp |  | 07/28/92 | 09/09/94, 59 FR 46553 | Findings and Order.
|  | 02/25/94 | 09/09/94, 59 FR 46553 | Amendment One to Findings and Order.
Federal Hoffman, Incorporated |  | 05/27/92 | 04/14/94, 59 FR 17703 | Findings and Order.
|  | 03/23/95 | 04/03/98, 63 FR 16435 | Amendment Two to Findings and Order.
Flint Hills Resources, L.P. (formerly Koch Petroleum) |  | 03/11/03 | 06/05/03, 68 FR 33631 | Amendment Six to Findings and Order.
Franklin Heating Station | 1148-83-OT-1 [10900019] | 06/19/98 | 03/09/01, 66 FR 14087 | Title I conditions only.
GAF Building Materials |  | 05/27/92 | 04/14/94, 59 FR 17703 | Findings and Order.
|  | 09/18/97 | 02/08/99, 64 FR 5936 | Amendment Two to Findings and Order.
Gopher Smelting & Refining Co |  | 06/22/93 | 10/18/94, 59 FR 52431 | Findings and Order.
Great Lakes Coal & Dock Co. |  | 08/25/92 | 02/15/94, 59 FR 7218 | Amended Findings and Order.
|  | 12/21/94 | 06/13/95, 60 FR 31088 | Amendment One to Amended Findings and Order.
Harvest States Cooperatives |  | 01/26/93 | 02/15/94, 59 FR 7218 | Findings and Order.
|  | 12/21/94 | 06/13/95, 60 FR 31088 | Amendment One to Findings and Order.
International Business Machine Corp., IBM—Rochester | 10900006-001 | 06/03/98 | 03/09/01, 66 FR 14087 | Title I conditions only.
J.L. Shiely Co. |  | 08/25/92 | 02/15/94, 59 FR 7218 | Amended Findings and Order.
|  | 12/21/94 | 06/13/95, 60 FR 31088 | Amendment Two to Amended Findings and Order.
|  | 02/21/95 | 04/03/98, 63 FR 16435 | Amendment Three to Amended Findings and Order.
Lafarge Corp., Childs Road facility |  | 11/30/92 | 02/15/94, 59 FR 7218 | Second Amended Findings and Order.
|  | 12/21/94 | 06/13/95, 60 FR 31088 | Amendment One to Second Amended Findings and Order.
|  | 09/23/97 | 02/08/99, 64 FR 5936 | Amendment Two to Second Amended Findings and Order.
Lafarge Corp., Red Rock Terminal | 12300353-002 | 05/07/02 | 08/19/04, 68 FR 51371 | Title I conditions only.
Marathon Ashland Petroleum, LLC | 16300003-003 | 10/26/99 | 05/20/02, 67 FR 35437 | Title I conditions only.
Metropolitan Council Environmental Service, Metropolitan Wastewater Treatment Plant | 12300053-001 | 03/13/01 | 09/11/02, 67 FR 57517 | Title I conditions only.
Minneapolis Energy Center Inc |  | 05/27/92 | 04/14/94, 59 FR 17706 | Findings and Order for Main Plant, Baker Boiler Plant, and the Soo Line Boiler Plant.
North Star Steel Co. |  | 04/22/93 | 02/15/94, 59 FR 7218 | Third Amended Findings and Order.
|  | 12/21/94 | 06/13/95, 60 FR 31088 | Amendment One to Third Amended Findings and Order.
|  | 09/23/97 | 02/08/99, 64 FR 5936 | Amendment Two to Third Amended Findings and Order.
Northern States Power Co., Riverside Plant | 05300015-001 | 05/11/99 | 02/26/02, 67 FR 8727 | Title I conditions only.
Olmstead County, Olmstead Waste-to-Energy Facility | 10900005-001 | 06/05/97 | 03/09/01, 66 FR 14087 | Title I conditions only.
Rochester Public Utilities, Cascade Creek Combustion | 00000610-001 | 01/10/97 | 03/09/01, 66 FR 14087 | Title I conditions only.
Rochester Public Utilities, Silver Lake Plant | 10900011-001 | 07/22/97 | 03/09/01, 66 FR 14087 | Title I conditions only.
St. Mary's Hospital | 10900008-007 | 02/28/97 | 03/09/01, 66 FR 14087 | Title I conditions only.
St. Paul Terminals |  | 02/02/96 | 07/22/97, 62 FR 39120 | Findings and Order.
United Defense, LP (formerly FMC/U.S. Navy) | 00300020-001 | 11/25/02 | 08/18/04, 69 FR 51181 | Title I conditions only.
Xcel Energy (formerly Northern States Power) Inver Hills Generating Plant | 03700015-001 | 07/25/00 | 06/08/04, 68 FR 31891 | Title I conditions only.

(e) EPA approved nonregulatory provisions.

EPA—Approved Minnesota Nonregulatory Provisions
Name of nonregulatory SIP provision | Applicable geographic or nonattainment area | State submittal date/ effective date | EPA approved date | Comments
Air Quality Surveillance Plan | Statewide | 05/08/80, 06/02/80 | 03/04/81, 46 FR 15138
Carbon Monoxide 1993 periodic Emission Inventory | Anoka, Carver, Dakota, Hennepin, Ramsey, Scott, Washington, and Wright Counties | 09/28/95 | 10/23/97, 62 FR 55170
Deletion of TSP Designations | Statewide |  | 07/10/02, 67 FR 45637
Duluth Carbon Monoxide Redesignation and Maintenance Plan | St. Louis County (part) | 10/30/92 | 04/14/94, 59 FR 17708
Duluth Carbon Monoxide Transportation Control Plan | St. Louis County | 07/3/79 and 07/27/79 | 06/16/80, 45 FR 40579
|  | 10/30/92 | 04/14/94, 59 FR 17706 | Removal of transportation control measure.
Lead Maintenance Plan | Dakota County | 06/22/93 | 10/18/94, 59 FR 52431 | Corrected codification information on 05/31/95 at 60 FR 28339.
Lead Monitoring Plan | Statewide | 04/26/83, 02/15/84, and 02/21/84 | 07/05/84, 49 FR 27502 | Entire Lead Plan except for the New Source Review portion.
Oxygenated Fuels Program—Carbon Monoxide Contingency Measure | Anoka, Carver, Dakota, Hennepin, Ramsey, Scott, Washington, and Wright Counties | 04/29/92 | 02/21/96, 61 FR6547 | Laws of Minnesota for 1992 Chapter 575, section 29(b).
Rochester Carbon Monoxide Transportation Control Plan | Olmstead County | 07/3/79 and 07/27/79 | 06/16/80, 45 FR 40579
Rochester PM-10 Redesignation and Maintenance Plan | Olmstead County | 09/07/94 | 05/31/95, 60 FR 28339
Rochester Sulfur Dioxide Redesignation and Maintenance Plan | Olmstead County | 110/4/98 | 03/09/01, 66 FR 14087
Small Business Stationary Source Technical and Environmental Compliance Assistance Plan | Statewide | 04/29/92 | 03/16/94, 59 FR 12165 | MN Laws Ch 546 sections 5 through 9.
St. Cloud Carbon Monoxide Redesignation | Benton, Sherbourne, and Stearns Counties | 08/31/89 | 06/28/93, 58 FR 34532
St. Cloud Carbon Monoxide Transportation Control Plan | Benton, Sherbourne, and Stearns Counties | 05/17/79 | 12/13/79, 44 FR 72116
|  | 08/31/89 | 06/28/93, 58 FR 34529
St. Paul PM-10 Redesignation and Maintenance Plan | Ramsey County | 06/20/02 | 07/26/02, 67 FR 48787
Twin Cities Carbon Monoxide Redesignation and Maintenance Plan | Anoka, Carver, Dakota, Hennepin, Ramsey, Scott, Washington, and Wright Counties | 03/23/98 | 10/29/99, 64 FR 58347
Twin Cities Carbon Monoxide Transportation Control Plan | Anoka, Carver, Dakota, Hennepin, Ramsey, Scott, and Washington Counties | 07/3/79 and 07/27/79 07/21/81 05/20/85 and 04/17/86 | 06/16/80, 45 FR 40579 12/08/81, 46 FR 59972 12/31/86, 51 FR 47237
Twin Cities / Pine Bend Sulfur Dioxide Redesignation and Maintenance Plan | Anoka, Carver, Dakota, Hennepin, Ramsey, and Washington Counties | 09/07/94 10/03/95 | 05/31/95, 60 FR 28339 05/13/97, 62 FR 26230 | Except for St. Paul Park area. St. Paul Park area.

[FR Doc. 05-3453 Filed 2-23-05; 8:45 am]

BILLING CODE 6560-50-P